DEPARTMENT OF THE TREASURY

Internal Revenue Service

Open Meeting of the Area 3 Taxpayer Advocacy Panel (Including the States of Florida, Georgia, Alabama, Mississippi, Louisiana, Arkansas and Tennessee)

AGENCY: Internal Revenue Service (IRS), Treasury.

ACTION: Notice.

SUMMARY: An open meeting of the Area 3 Taxpayer Advocacy Panel will be conducted in Nashville, TN. The Taxpayer Advocacy Panel is soliciting public comments, ideas, and suggestions on improving customer service at the Internal Revenue Service.

DATES: The meeting will be held Friday, September 17, 2004 and Saturday, September 18, 2004.

FOR FURTHER INFORMATION CONTACT: Sallie Chavez at 1-888-912-1227 (toll-free), or 954-423-7979 (non toll-free).

SUPPLEMENTARY INFORMATION: Notice is hereby given pursuant to section 10 (a) (2) of the Federal Advisory Committee Act, 5 U.S.C. App. (1988) that an open meeting of the Area 3 Taxpayer Advocacy Panel will be held Friday, September 17, 2004, from 8:30 a.m. to 12 p.m. and from 1 p.m. to 5 p.m. EDT and Saturday, September 18, 2004, from 8:30 a.m. to 12 p.m. EDT in Nashville, TN at Courtyard Marriott Downtown, 170 Fourth Ave North, Nashville, TN 37219. For information or to confirm attendance, notification of intent to attend the meeting must be made with Sallie Chavez. Mrs. Chavez may be reached at 1-888-912-1227 or 954-423-7979 or write Sallie Chavez, 1000 South Pine Island Rd., Suite 340, Plantation, FL 33324, or post comments to the Web site: http://www.improveirs.org.

The agenda will include: Various IRS issues.

Dated: August 19, 2004.
Bernard Coston,
Director, Taxpayer Advocacy Panel.

[FR Doc. 04-19354 Filed 8-23-04; 8:45 am]

BILLING CODE 4830-01-U